DEPARTMENT OF AGRICULTURE

Rural Utilities Service

Habersham Electric Membership Corporation; Notice of Finding of No Significant Impact

AGENCY: Rural Utilities Service, USDA.

ACTION: Notice of finding of no significant impact.

SUMMARY: Notice is hereby given that the Rural Utilities Service (RUS) has made a finding of no significant impact with respect to a request from Habersham Electric Membership Corporation for financing assistance from RUS to finance the construction of a new headquarters facility in Habersham County, Georgia.

FOR FURTHER INFORMATION CONTACT: Bob Quigel, Environmental Protection Specialist, Engineering and Environmental Staff, RUS, Stop 1571, 1400 Independence Avenue, SW., Washington, DC 20250-1571, telephone (202) 720-0468, e-mail at bquigel@rus.usda.gov.

SUPPLEMENTARY INFORMATION: Habersham Electric Membership Corporation proposes to construct a new headquarters facility adjacent to their existing headquarters facility located at the eastern intersection of Georgia Highway 115 and Beaver Dam Road in Habersham County, Georgia. The new headquarters will be constructed near the center of a 40-acre tract purchased by Habersham Electric Membership Corporation for this purpose at the western intersection of Georgia Highway 115 and Beaver Dam Road. The facilities will provide approximately 40,000 square-foot of warehouse, office space, conference rooms, and vehicle maintenance. The facilities will include parking for employees and visitors. Approximately 17 acres of the site will be graded to accommodate the facilities.

Copies of the Finding of No Significant Impact are available from RUS at the address provided herein or from Mr. Clyde Hardigree of Habersham Electric Membership Corporation, P.O. Box 25, Clarkesville, Georgia 30523-0025 telephone 1-800-640-6812 extension 169.

Dated: August 22, 2002.
Blaine D. Stockton,
Assistant Administrator, Electric Program, Rural Utilities Service.

[FR Doc. 02-22155 Filed 8-29-02; 8:45 am]

BILLING CODE 3410-15-P